DEPARTMENT OF COMMERCE

International Trade Administration

[C-570-978]

High Pressure Steel Cylinders From the People's Republic of China; Rescission of Countervailing Duty Administrative Review; 2019

AGENCY: Enforcement and Compliance, International Trade Administration, Department of Commerce.

SUMMARY: The Department of Commerce (Commerce) is rescinding the administrative review of the countervailing duty (CVD) order on high pressure steel cylinders from the People's Republic of China for the period of review (POR) January 1, 2019 through December 31, 2019, based on the timely withdrawal of the requests for review.

DATES: Applicable November 3, 2020.

FOR FURTHER INFORMATION CONTACT: Theodore Pearson, AD/CVD Operations, Office I, Enforcement and Compliance, International Trade Administration, U.S. Department of Commerce, 1401 Constitution Avenue NW, Washington, DC 20230; telephone: (202) 482-2631.

SUPPLEMENTARY INFORMATION:

Background

On June 2, 2020, Commerce published a notice of opportunity to request an administrative review of the CVD order on high pressure steel cylinders from Italy for the POR January 1, 2019 through December 31, 2019.¹ Commerce received timely-filed requests for an administrative review from Norris Cylinder Company (the petitioner) ² and Beijing Tianhai Industry Co. Ltd., Tianjin Tianhai High Pressure Container Co., Ltd., and Langfang Tianhai High Pressure Container Co., Ltd. (collectively, BTIC),³ in accordance with section 751(a) of the Tariff Act of 1930, as amended (the Act), and 19 CFR 351.213(b). Commerce received no other requests for administrative review.

¹ See Antidumping or Countervailing Duty Order, Finding, or Suspended Investigation; Opportunity to Request Administrative Review, 85 FR 33628 (July 1, 2019).

² See Petitioner's Letter, “High Pressure Steel Cylinders from the People's Republic of China; Request for Administrative Review,” dated June 24, 2020.

³ See BTIC's Letter, “Request for the Eighth Administrative Review of the Countervailing Duty Order on High Pressure Steel Cylinders from the People's Republic of China, C-570-978 (POR: 01/01/19-12/31/19),” dated June 30, 2020.

On August 6, 2020, pursuant to these requests and in accordance with 19 CFR 351.221(c)(1)(i), Commerce published a notice initiating an administrative review of the CVD order on high pressure steel cylinders from China.⁴ On October 19, 2020, the petitioner and BTIC withdrew their requests for an administrative review of all companies for which they had requested a review.⁵

⁴ See Initiation of Antidumping and Countervailing Duty Administrative Reviews, 85 FR 47731 (August 6, 2020).

⁵ See Petitioner's Letter, “High Pressure Steel Cylinders from the People's Republic of China; Withdrawal of Request for Administrative Review,” dated October 19, 2020; see also BTIC's Letter, “Withdrawal of Review Request in the Eighth Administrative Review of Countervailing Duty Order on High Pressure Steel Cylinders from the People's Republic of China,” dated October 19, 2020.

Rescission of Review

Pursuant to 19 CFR 351.213(d)(1), Commerce will rescind an administrative review, in whole or in part, if the party or parties that requested a review withdraws the request within 90 days of the publication date of the notice of initiation of the requested review. As noted above, the petitioner and BTIC withdrew their requests for review of all companies within 90 days of the publication date of the notice of initiation. No other parties requested an administrative review of the order. Therefore, in accordance with 19 CFR 351.213(d)(1), we are rescinding the administrative review of the CVD order on high pressure steel cylinders from China covering January 1, 2019 through December 31, 2019, in its entirety.

Assessment

Commerce intends to instruct U.S. Customs and Border Protection (CBP) to assess countervailing duties on all appropriate entries of high pressure steel cylinders from China during the POR. Countervailing duties shall be assessed at rates equal to the cash deposit of estimated countervailing duties required at the time of entry, or withdrawal from warehouse, for consumption in accordance with 19 CFR 351.212(c)(1)(i). Commerce intends to issue appropriate assessment instructions to CBP 15 days after the date of publication of this notice in the Federal Register.

Notification Regarding Administrative Protective Orders

This notice serves as a reminder to all parties subject to administrative protective order (APO) of their responsibility concerning the disposition of proprietary information disclosed under APO in accordance with 19 CFR 351.305(a)(3). Timely written notification of the return/destruction of APO materials or conversion to judicial protective order is hereby requested. Failure to comply with the regulations and terms of an APO is a violation which is subject to sanction.

Notification to Interested Parties

This notice is issued and published in accordance with sections 751(a)(1) and 777(i)(1) of the Act, and 19 CFR 351.213(d)(4).

Dated: October 28, 2020.
James Maeder,
Deputy Assistant Secretary for Antidumping and Countervailing Duty Operations.

[FR Doc. 2020-24319 Filed 11-2-20; 8:45 am]

BILLING CODE 3510-DS-P